DEPARTMENT OF ENERGY

Federal Energy Regulatory Commission

[Project No. 12741-003]

Albany Engineering Corporation; Notice of Successive Preliminary Permit Application Accepted for Filing and Soliciting Comments, Motions To Intervene, and Competing Applications

On August 20, 2013, Albany Engineering Corporation (Albany Engineering) filed an application for a successive preliminary permit, pursuant to section 4(f) of the Federal Power Act (FPA), proposing to study the feasibility of hydropower adjacent to the New York State Canal Corporation's Lock C5 located on the Hudson River in Saratoga and Washington Counties, New York. The sole purpose of a preliminary permit, if issued, is to grant the permit holder priority to file a license application during the permit term. A preliminary permit does not authorize the permit holder to perform any land-disturbing activities or otherwise enter upon lands or waters owned by others without the owners' express permission.

The proposed Thomson Project would consist of: (1) A new arc-shaped dam consisting of six 111-foot-long 12-foot-high spillway sections integrated with five 50-foot-diameter circular-shell piers, located 1,600 feet downstream of the existing Northumberland Dam; (2) a new 324-acre impoundment between the new dam and the existing Northumberland Dam, that would extend an existing impoundment having a surface area of 2,750 acres at a normal water surface elevation of 101.1 feet mean sea level by lowering the crest of the existing dam; (3) a 4,000-foot-long by 12-foot-deep segment of the existing Champlain Canal; (4) the existing Lock No. 5 facilities; (5) five identical turbine-generating units each housed in one of five circular-shell piers, with a total capacity of 23.7 megawatts; (6) a new 8,000-foot-long, 34.5-kilovolt transmission line; and (7) appurtenant facilities. The proposed project would have an estimated average annual generation of 68.9 gigawatt-hours.

Applicant Contact: Wendy Jo Carey, Albany Engineering Corporation, 5 Washington Square, Albany, NY 12205; phone: (518) 456-7712.

FERC Contact: Monir Chowdhury; phone: (202) 502-6736.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-12741-003.

More information about this project, including a copy of the application, can be viewed or printed on the “eLibrary” link of the Commission's Web site at http://www.ferc.gov/docs-filing/elibrary.asp. Enter the docket number (P-12741) in the docket number field to access the document. For assistance, contact FERC Online Support.

Dated: September 9, 2013.
Kimberly D. Bose,
Secretary.

[FR Doc. 2013-22320 Filed 9-12-13; 8:45 am]

BILLING CODE 6717-01-P